DEPARTMENT OF COMMERCE

Bureau of Industry and Security

Proposed Information Collection; Comment Request; Procedures for Submitting Requests for Expedited Relief From Quantitative Limits—Existing Contract: Section 232 National Security Investigations of Steel Imports

AGENCY: Bureau of Industry and Security, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 13, 2018.

ADDRESSES: Direct all written comments to Jennifer Jessup, Departmental Paperwork Clearance Officer, Department of Commerce, 1401 Constitution Avenue NW, Room 6616, Washington, DC 20230 (or via the internet at docpra@doc.gov.)

FOR FURTHER INFORMATION CONTACT: Requests for additional information or copies of the information collection instrument and instructions should be directed to Mark Crace, BIS ICB Liaison, (202) 482-8093 or at mark.crace@bis.doc.gov.

SUPPLEMENTARY INFORMATION:

I. Abstract

In the Proclamation of August 29, President Trump directed that as soon as practicable, the Secretary of Commerce shall issue procedures for requests for exclusions described in clause 2 to allow for exclusion requests for countries subject to quantitative limitations. The U.S. Department of Commerce will create an exclusion process for clause 2 by posting the newly created form on the Commerce website. Requesters will complete this form and send the form, the required certification, and any needed attachments to the U.S. Department of Commerce at the email address steel232-exp@bis.doc.gov. The posting of this exclusion procedure on the Commerce website will fulfill the Presidential directive included in the most recent Proclamation, as well as the earlier Proclamations that directed the Secretary of Commerce to create an exclusion process to ensure users of steel in the United States would continue to have access to the steel that they may need.

“The Secretary shall, on an expedited basis, grant relief from the quantitative limitation set forth in Proclamation 9740 and Proclamation 9759 and their accompanying annexes for any steel article where (i) the party requesting relief entered into a written contract for production and shipment of such steel article before March 8, 2018; (ii) such contract specifies the quantity of such steel article that is to be produced and shipped to the United States consistent with a schedule contained in such contract; (iii) such steel article is to be used to construct a facility in the United States and such steel article cannot be procured from a supplier in the United States to meet the delivery schedule and specifications contained in such contract.”

II. Method of Collection

Exclusion requests described in the procedures posted on the Commerce website for clause 2 exclusion from the Proclamation of August 29 will be submitted to the U.S. Department of Commerce by email. All exclusion requests under clause 2 must be in electronic form, but may be submitted at any time. However, exclusion requests requested under clause 2 if granted will only be valid till March 31, 2019. All submissions for exclusion requests are entirely voluntary.

III. Data

OMB Control Number: 0694-0140.

Form Number(s): N/A.

Type of Review: Regular submission.

Affected Public: Private Sector.

Estimated Number of Respondents: 1,717.

Estimated Time per Response: 10 hours.

Estimated Total Annual Burden Hours: 17,170.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Section 232 of the Trade Expansion Act of 1962 (19 U.S.C. 1862).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-19659 Filed 9-10-18; 8:45 am]

BILLING CODE 3510-07-P